DEPARTMENT OF HEALTH AND HUMAN SERVICES

Agency for Healthcare Research and Quality

Patient Safety Organizations: Voluntary Relinquishment for Healthcare Quality Support, LLC (P0050); Premier Patient Safety Organization (P0054); QA STATS LLC (P0140); Securus Medica, LLC (P0053); Vascular Study Group Patient Safety Organization, LLC (P0080); and Washington State Patient Safety Organization (P0060)

AGENCY: Agency for Healthcare Research and Quality (AHRQ), Department of Health and Human Services (HHS).

ACTION: Notice of delisting.

SUMMARY: The Patient Safety and Quality Improvement Final Rule (Patient Safety Rule) authorizes AHRQ, on behalf of the Secretary of HHS, to list as a patient safety organization (PSO) an entity that attests that it meets the statutory and regulatory requirements for listing. A PSO can be “delisted” by the Secretary if it is found to no longer meet the requirements of the Patient Safety and Quality Improvement Act of 2005 (Patient Safety Act) and Patient Safety Rule, when a PSO chooses to voluntarily relinquish its status as a PSO for any reason, or when a PSO's listing expires. AHRQ accepted a notification of proposed voluntary relinquishment from Healthcare Quality Support, LLC (P0050); Premier Patient Safety Organization (P0054); QA STATS LLC (P0140); Securus Medica, LLC (P0053); Vascular Study Group Patient Safety Organization, LLC (P0080); and Washington State Patient Safety Organization PSO (P0060), of their PSO status and delisted the PSOs accordingly, but did not previously publish notices of their delisting in the Federal Register.

DATES: The delistings were effective at 12:00 Midnight ET (2400) on

• February 9, 2011—Healthcare Quality Support, LLC (P0050)

• February 9, 2011—Premier Patient Safety Organization (P0054)

• January 7, 2015—QA STATS LLC (P0140)

• March 2, 2011—Securus Medica, LLC (P0053)

• February 15, 2011—Vascular Study Group Patient Safety Organization, LLC (P0080)

• March 2, 2011—Washington State Patient Safety Organization PSO (P0060)

ADDRESSES: The directories for both listed and delisted PSOs are ongoing and reviewed weekly by AHRQ. Both directories can be accessed electronically at the following HHS website: http://www.pso.ahrq.gov/listed.

FOR FURTHER INFORMATION CONTACT: Cathryn Bach, Center for Quality Improvement and Patient Safety, AHRQ, 5600 Fishers Lane, MS 06N100B, Rockville, MD 20857; Telephone (toll free): (866) 403-3697; Telephone (local): (301) 427-1111; TTY (toll free): (866) 438-7231; TTY (local): (301) 427-1130; Email: pso@ahrq.hhs.gov.

SUPPLEMENTARY INFORMATION:

Background

The Patient Safety Act, 42 U.S.C. 299b-21 to 299b-26, and the related Patient Safety Rule, 42 CFR part 3, published in the Federal Register on November 21, 2008, 73 FR 70732-70814, establish a framework by which individuals and entities that meet the definition of provider in the Patient Safety Rule may voluntarily report information to PSOs listed by AHRQ, on a privileged and confidential basis, for the aggregation and analysis of patient safety events.

The Patient Safety Act authorizes the listing of PSOs, which are entities or component organizations whose mission and primary activity are to conduct activities to improve patient safety and the quality of health care delivery.

HHS issued the Patient Safety Rule to implement the Patient Safety Act. AHRQ administers the provisions of the Patient Safety Act and Patient Safety Rule relating to the listing and operation of PSOs. The Patient Safety Rule authorizes AHRQ to list as a PSO an entity that attests that it meets the statutory and regulatory requirements for listing. A PSO can be “delisted” if it is found to no longer meet the requirements of the Patient Safety Act and Patient Safety Rule, when a PSO chooses to voluntarily relinquish its status as a PSO for any reason, or when a PSO's listing expires. Section 3.108(d) of the Patient Safety Rule requires AHRQ to provide public notice when it removes an organization from the list of PSOs.

AHRQ accepted requests to voluntarily relinquish their PSO status from Healthcare Quality Support, LLC (P0050); Premier Patient Safety Organization (P0054), a component entity of the Premier Incorporated; QA STATS LLC (P0140); Securus Medica, LLC (P0053); Vascular Study Group Patient Safety Organization, LLC (P0080), a component entity of the M2S, Inc.; and Washington State Patient Safety Organization PSO (P0060), a component entity of the Washington State Hospital Association. Accordingly, Healthcare Quality Support, LLC (P0050—February 9, 2011), Premier Patient Safety Organization (P0054—February 9, 2011), QA STATS LLC (P0140—January 7, 2015), Securus Medica, LLC (P0053—March 2, 2011), Vascular Study Group Patient Safety Organization, LLC (P0080—February 15, 2011) and Washington State Patient Safety Organization (P0060—March 2, 2011) PSOs, were delisted effective at 12:00 Midnight ET (2400) on the dates noted above. Notices of these delistings were not previously published in the Federal Register.

Healthcare Quality Support, LLC (P0050), Premier Patient Safety Organization (P0054), QA STATS LLC (P0140), Securus Medica, LLC (P0053), Vascular Study Group Patient Safety Organization, LLC (P0080) and Washington State Patient Safety Organization (P0060) had patient safety work product (PSWP) in their possession. The PSOs were required to meet the requirements of section 3.108(c)(2)(i) of the Patient Safety Rule regarding notification to providers that have reported to the PSO and of section 3.108(c)(2)(ii) regarding disposition of PSWP consistent with section 3.108(b)(3). According to section 3.108(b)(3) of the Patient Safety Rule, the PSO had 90 days from the effective date of delisting and revocation to complete the disposition of PSWP that was currently in the PSOs' possession.

More information on PSOs can be obtained through AHRQ's PSO website at http://www.pso.ahrq.gov.

Virginia L. Mackay-Smith,
Associate Director.

[FR Doc. 2019-19581 Filed 9-10-19; 8:45 am]

BILLING CODE 4160-90-P